DEPARTMENT OF HOMELAND SECURITY

Transportation Security Administration

[Docket No. TSA-2001-11120]

Extension of Agency Information Collection Activity Under OMB Review: Imposition and Collection of Passenger Civil Aviation Security Service Fees (September 11th Security Fee)

AGENCY: Transportation Security Administration (TSA), DHS.

ACTION: Notice.

SUMMARY: This notice announces that TSA has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on May 6, 2005, 70 FR 24108.

DATES: Send your comments by August 26, 2005. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220; telephone (571) 227-1995; facsimile (571) 227-2594.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Imposition and Collection of Passenger Civil Aviation Security Service Fees (September 11th Security Fee).

Type of Request: Extension of a currently approved collection.

OMB Control Number: 1652-0001.

Forms: September 11th Security Fees Quarterly Report Form.

Frequency: Quarterly.

Abstract: On December 31, 2001, TSA published an interim final rule imposing a security service fee (September 11th Security Fee) (see 66 FR 67698). Imposition of the fee began on February 1, 2002. Approximately 196 domestic and foreign air carriers are expected to collect and remit the September 11th Security Fee. Each of these carriers is then required to: (1) Establish and maintain an accounting system to account for the September 11th Security Fees that are imposed, collected, refunded, and remitted; (2) report this information to TSA on a quarterly basis; and (3) retain the data used for these reports for a six-year rolling period (so that information for Fiscal Year 2005 must be retained until Fiscal Year 2011 expires, and so on).

Each air carrier that collects security service fees from more than 50,000 passengers annually is also required under 49 CFR 1510.15 to submit to TSA an annual independent audit, performed by an independent certified public accountant, of its security service fee activities and accounts. Although, the annual independent audit requirements were suspended January 23, 2003 (68 FR 3192), TSA conducts its own audits of the air carriers (49 CFR 1510.19).

TSA is seeking renewal of this collection to require air carriers to continue submitting the quarterly reports to TSA, and to retain the information for a six-year rolling period. This requirement includes retaining the source information for the quarterly reports remitted to TSA, and the calculations and allocations performed to remit reports to TSA. Should the auditing requirement be reinstated, the requirement would include information and documents reviewed and prepared for the independent audit. Although TSA suspended the independent audits, TSA conducts audits of the air carriers, and therefore, requires air carriers to retain and provide the same information as required for the quarterly reports and independent audits. TSA estimates 105 carriers of the 196 total respondent domestic and foreign air carriers would be responsible for this audit should the requirement be reinstated.

Number of Respondents: 196.

Estimated Annual Burden Hours: An estimated 2884 hours annually.

Issued in Arlington, Virginia, on July 21, 2005.
Lisa S. Dean,
Privacy Officer.

[FR Doc. 05-14818 Filed 7-26-05; 8:45 am]

BILLING CODE 4910-62-P